FEDERAL COMMUNICATIONS COMMISSION

47 CFR Part 73

[MB Docket No. 07-163; RM-11385; RM-11416; DA 11-1129]

Radio Broadcasting Services; Markham, TX

AGENCY: Federal Communications Commission.

ACTION: Final rule; denial of petition for reconsideration.

SUMMARY: The Audio Division has denied the petition for reconsideration of Victoria Radio Works, LLC (“VRW”), seeking reconsideration of the Audio Division's Report and Order. The Report and Order allotted Channel 283A at Markham, Texas, upgraded Station KHTZ(FM), Ganado, Texas, to Channel 235C, and substituted Channel 284C3 for Channel 236C3, at Victoria, Texas. In this Memorandum Opinion and Order, the Audio Division denied VRW's petition for reconsideration, which requested that Station KHTZ(FM) be ordered to operate on Channel 235C2 on an interim basis.

FOR FURTHER INFORMATION CONTACT: Deborah Dupont, Media Bureau, (202) 418-7072.

SUPPLEMENTARY INFORMATION: This is a synopsis of the Commission's Memorandum Opinion and Order, MB Docket No. 07-163, adopted June 27, 2011, and released June 28, 2011. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW, Room CY-B402, Washington, DC, 20554, (800) 378-3160, or via the company's Web site, http://www.bcpiweb.com. This document is not subject to the Congressional Review Act. The Commission is, therefore, not required to send a copy of this Report and Order in a report to be sent to Congress and the Government Accountability Office pursuant to the Congressional Review Act, see U.S.C. 801(a)(1)(A), because the petition for reconsideration was denied.

Federal Communications Commission.
Nazifa Sawez,
Assistant Chief, Audio Division, Media Bureau.

[FR Doc. 2011-18638 Filed 7-21-11; 8:45 am]

BILLING CODE 6712-01-P